DEPARTMENT OF AGRICULTURE

Forest Service

Revision of Land and Resource Management Plan for the Mark Twain National Forest; Barry, Bollinger, Boone, Butler, Callaway, Carter, Christian, Crawford, Dent, Douglas, Howell, Iron, Laclede, Madison, Oregon, Ozark, Phelps, Pulaski, Reynolds, Ripley, St. Genevieve, St. Francis, Shannon, Stone, Taney, Texas, Washington, Wayne, and Wright Counties, MO

AGENCY: Forest Service, USDA.

ACTION: Notice of Intent to prepare environmental impact statement (EIS).

SUMMARY: The USDA Forest Service intends to prepare an EIS for revising the Mark Twain National Forest Land and Resource Management Plan (Forest Plan) pursuant to 16 U.S.C. 1604(f)(5) and USDA Forest Service National Forest System Land and Resource Management Planning regulations (36 CFR 219.) The revised Forest Plan will supersede the current Forest Plan, which the regional forester approved June 23, 1986, and has been amended 25 times. This notice describes the focus areas of change, the estimated dates for filing the EIS, the information concerning public participation, and the names and addresses of the responsible agency official and the individual who can provide additional information.

DATES: Your comments on this Notice of Intent (NOI) should be submitted in writing by August 2, 2002. The Draft EIS is expected to be available for public review by November 2004. The Final EIS and revised Forest Plan are expected to be completed by October 2005.

ADDRESSES: Send written comments to: NOI—FP Revision, Mark Twain National Forest, 401 Fairgrounds Road, Rolla, MO 65401. Electronic mail should include “Forest Plan Revision” in the subject line, and be sent to: mailroom_r9;_mark_twain@fs.fed.us

FOR FURTHER INFORMATION CONTACT: Laura Watts, Forest Planner, at 573-341-7471, TTY 573-341-7453. Information will also be posted on the forest web page at www.fs.fed.us/r9/marktwain/

Responsible Official: Regional Forester, Eastern Region, 310 W. Wisconsin Ave, Milwaukee, Wisconsin 53203.

SUPPLEMENTARY INFORMATION: The Regional Forester for the Eastern Region gives notice of the agency's intent to prepare an EIS to revise the Mark Twain Forest Plan. The Regional Forester approved the original Mark Twain Forest Plan in June 1986. This plan guides the overall management of the Mark Twain National Forest.

The National Forest Management Act requires that national forests revise forest plans at least every 15 years (U.S.C. 1604[f][5]). Additional indicators of the need to revise the 1986 Mark Twain Forest Plan are: (1) Land conditions and public demands have changed, (2) agency policies and strategic priorities have changed, (3) results of monitoring and evaluation suggest the need for revision, (4) new information is available, and (5) suggestions for changes have been made by those interested in management of the Mark Twain National Forest.

The Nature and Scope of the Decision to be Made: Forest plans make the following types of decisions:

1. Forest-wide multiple-use goals and objectives. Goals describe a desired condition to be achieved sometime in the future. Objectives are concise, time-specific statements of measurable planned results that respond to the goals.

2. Forest-wide management direction and requirements. These include limitations on management activities, or advisable courses of action that apply across the entire forest.

3. Management direction specific to certain portions (management areas) of the Forest. This includes the desired future condition for different areas of the forest, and the accompanying management direction to help achieve that condition.

4. Lands suited and not suited for resource use and production (e.g. timber management).

5. Monitoring and evaluation requirements needed to gauge how well the plan is being implemented.

6. Recommendations to Congress, if any (e.g. additional Wilderness designation).

The scope of this decision is limited to revisiting only those portions of the current Forest Plan that need revision, update, or correction. We propose to narrow the scope of revising the Forest Plan by focusing on topics identified as being most critically in need of change.

Revision Topics: Many sources were reviewed to identify the parts of the current Forest Plan that need revision, update, or correction. These sources included: comments from the public, interested groups, government officials, State and Federal agencies, and Forest Service employees; results of monitoring and evaluation; changes in law and policy; relevant new scientific information; the 1991 five-year review of the Forest Plan; and the Ozark-Ouachita Highlands Assessment.

Based on our review of the current Forest Plan and the sources listed above, we propose that the Forest Plan revision focus on improving management in the following areas:

1. Vegetation and Timber Management

a. Identify lands suited to timber production.

b. Maintain oak-hickory, shortleaf pine and oak-pine communities by providing for adaptive management and greater flexibility of silvicultural techniques.

2. Ecological Sustainability and Ecosystem Health

a. Restore and maintain healthy forest ecosystems in response to oak decline; provide a healthier balance of shortleaf pine and white oak; restore open woodland habitats.

b. Encourage natural vegetation by allowing pine and oak reforestation and stand improvement in a wider variety of situations.

c. Provide a wide diversity of natural communities and wildlife habitat conditions.

d. Revise list of management indicator species.

3. Fire Management

a. Use prescribed fire to restore ecosystems, reduce hazardous fuels, maintain healthy forests and provide wildlife habitat.

b. Manage wildland fires to protect life and property.

c. Improve and maintain forest health and reduce the intensity of wildland fires through a proactive approach to fire and fuels management.

4. Management Area Boundaries and Prescriptions

a. Adjust management area boundaries where needed to incorporate ecological landtypes, current social demands, and management practicalities.

b. Evaluate inventoried roadless areas for Wilderness designation. Determine the most appropriate use and management for inventoried roadless areas not recommended to Congress for Wilderness designation. Determine eligibility and highest potential classification for any rivers identified with potential for inclusion in the Nation's wild and scenic river system.

5. Riparian Management

a. Restore and maintain the ecological function of riparian areas, emphasizing the ecological processes that riparian areas play in supporting aquatic systems and water quality; define riparian areas and aquatic ecosystems based on plant community, soil and hydrologic criteria; protect water quality and ecological processes associated with karst terrain and karst features.

Additional detail on the Revision Topics is available in the document titled “Assessment of the Need For Change in the Revision of the Mark Twain National Forest Land and Resource Management Plan.” You are encouraged to review this additional document before commenting on the Notice of Intent. You may request the additional information as indicated in the ADDRESSES and FOR FURTHER INFORMATION CONTACT sections of this notice.

Other Changes: In addition to the major revision topics listed above, we anticipate making other changes that are important as direction for the forest but which tend to be narrow in scope. These changes, which are listed below, would not affect many resources or result in significant changes in the plan.

1. Access and Transportation Management

a. Modify or eliminate road density standards in management area prescriptions.

b. Eliminate “woods roads” designation.

c. Eliminate the Forest Plan Transportation Map.

d. Clarify existing plan direction for off-highway vehicle (OHV) and all-terrain vehicle (ATV) use on the forest.

2. Scenery Management System

a. Replace the current Visual Management System with the national Scenery Management System.

3. Monitoring and Evaluation

a. Revise the monitoring strategy to focus on information that will enhance understanding of resource management issues, is measurable and scientifically supported, and is feasible given probably budgets.

We also propose making changes of an editorial nature. These could include changes to explain or clarify direction in the existing plan, remove items that do not pertain to the six Forest Plan decisions, or remove direction that can be found elsewhere, such as in the Forest Service Directives System. These changes would not represent a change in the direction, goals or objectives in the Plan.

Topics beyond the scope of this Forest Plan Revision: Forest plan decisions do not change laws, regulations or rights. The revised Forest Plan will only make decisions that apply to National Forest System lands. The revised Forest Plan will make no decisions regarding management or use of privately owned lands or reserved and outstanding mineral estates.

Of the topics suggested for change, some appear to be adequately addressed in the 1986 Forest Plan, as amended, and do not need to be changed. Others are not considered to be among the highest priority topics to be included in this revision, but rather can be differed to be addressed in future amendments. For a discussion of the process used to narrow the range of plan revision topics, see the document titled “Assessment of the Need For Change in the Revision of the Mark Twain National Forest Land and Resource Management Plan.” You may request a copy of this document as indicated in the ADDRESSES and FOR FURTHER INFORMATION CONTACT sections of this notice. Some of the Forest Plan decisions that do not need to be changed at this time are:

• Management for Federally-listed and other sensitive species—The Forest Plan was amended in 2000 and 2001 to incorporate changes in management for threatened and endangered species. In 2001, an analysis found that the current Forest Plan provided objectives contributing to the viability of species on the Region 9 Regional Forester's Sensitive Species list. We do not propose any changes for management of species at risk.

• Management of rivers previously identified as eligible for inclusion in the National Wild and Scenic Rivers system—Under current Forest Plan direction, these rivers and the National Forest System lands around them are managed to perpetuate their current condition and protect their unique qualities. There has been no wide spread public support, or any indication from the State, Federal agencies, or Congressional delegations that there is a need to change the current management of these rivers or to conduct a suitability determination at this time. Therefore, we do not propose any changes in the management direction for these rivers.

• Off-road vehicle use on the Forest—Under the current plan, the Forest is “closed unless posted open” to motorized use. This means that off-highway vehicle (OHV) and all-terrain vehicle (ATV) use is restricted to designated trails or use areas. OHVs and ATVs may also use Forest Service classified roads (system roads), if the vehicle complies with State law. OHV and ATV users have expressed a strong interest in using existing unclassified roads, which the Forest Plan considers to be closed (whether or not there is a physical closure) and therefore off-limits to all motorized vehicle use. Based on monitoring results, interpretation of national policy trends, other Forests' experiences, and our own experiences trying to manage ATV and OHV use, we do not believe that a major change in plan direction for off-road motorized use is warranted.

• Recreation Management—The Forest Plan was recently amended to update the goals and management direction for recreation. The amendment expanded the recreation program emphasis to include providing quality developed sites and recreation facilities designed to meet the needs and desires of the public being served by the facility. The amendment also added Management Prescription 7.1 to the Forest Plan, emphasizing intensive recreation opportunities occurring in the more highly developed recreation areas. We do not propose any additional changes in direction for recreation management at this time.

• Heritage Resources Management—The Forest Plan was recently amended to address current federal mandates and compliance requirements for heritage resources. Processes were included for preservation efforts to restore and interpret selected heritage sites, increase public outreach, and develop public education and volunteer programs. We do not propose any additional changes in direction for heritage resources management at this time.

• Fish and Aquatic Management—The Forest Plan was recently amended to incorporate goals and management direction for fish and aquatic species into the Forest Plan. The amendment provides for protection of aquatic ecosystems, restoration of degraded aquatic ecosystems and recovery of threatened or endangered aquatic species, and enhancement of aquatic resource user opportunities by increasing system productivity, improving user access and/or associated amenities, and providing environmental education and interpretation. We do not propose any additional changes in direction for fish and aquatic management at this time.

• Minerals Exploration—There is a high level of interest and widely differing opinions about the mining and processing of lead in Missouri. The responsibility of the Forest Service in regards to mining is limited to the surface activities, primarily those associated with exploration for minerals. We believe that the Forest Plan contains appropriate and adequate direction in regards to the surface activities associated with mining that occur on the Mark Twain National Forest, and we do not propose any changes to the management direction in the Forest Plan.

Public comments received on topics beyond the scope of the Forest Plan revision will be acknowledged as such. Comments relating to project or program implementation will be forwarded to the managers responsible for that topic area. Comments on topics outside the responsibility of the Forest Service will be forwarded to the appropriate agency, State or local government.

Range of Alternatives: We will consider a range of alternatives when revising the Forest Plan. Alternatives will provide different ways to address and respond to issues identified during the scoping process. A “no-action alternative” is required, meaning that management would continue under the existing Forest Plan.

Proposed Revised Planning Regulations: The Department of Agriculture published new planning regulations in November of 2000. Concerns regarding the ability to implement these regulations prompted a review and will likely result in a proposed revision of the 2000 planning rule. On May 10, 2001, Secretary Veneman signed an interim final rule allowing forest plan amendments or revisions initiated before May 9, 2002, to proceed under the 2000 planning rule or under the 1982 planning rule. The Mark Twain National Forest will proceed under the 1982 planning rule, pending future transition direction in a revised rule.

Coordination with other National Forests: The Mark Twain, Ouachita, and Ozark-St. Francis National Forests manage about four million acres of public land in the Ozark-Ouachita Highlands of southeastern Oklahoma, southern Missouri, and northern and west-central Arkansas. Besides proximity, the forests share many management issues, markets, communities of interest, and ecological conditions. For example, the Mark Twain and the Ozark National Forests are working closely together on strategies for coping with the recent red oak borer infestation and oak decline. Recognizing our commonalities, and in an attempt to set the stage for forest plan revisions, the respective Forest Supervisors initiated the Ozark-Ouachita Highlands Assessment in 1996. This multi-agency, broad-scale assessment yielded a five-volume set of reports in late 1999 and demonstrated the value of a coordinated approach to meeting national forest planning needs in the Ozark-Ouachita Highlands. We intend to continue coordination among the three national forests throughout the forest plan revision process.

Inviting Public Participation: We are now soliciting comments and suggestions from Federal agencies, State and local governments, individuals, and organizations on the scope of the analysis to be included in the draft environmental impact statement for the revised Forest Plan (40 CFR 1501.7). Comments should focus on (1) the proposal for revising the Forest Plan, (2) possible alternatives for addressing issues associated with the proposal, (3) potential environmental effects that should be included in the analysis, and (4) any possible impacts associated with the proposal based on an individual's civil rights (race, color, national origin, age, religion, gender, disability, political beliefs, sexual orientation, marital or family status). We will encourage public participation in the environmental analysis and decision-making process.

Along with the release of this NOI and proposal for revising the Forest Plan, we will provide for many types of public involvement. One method of public involvement will be a series of public meetings hosted by the Forest Service. These purpose of these meetings is to (1) present and clarify proposed changes to the Forest Plan; (2) describe ways that individuals can respond to this Notice of Intent; and (3) accept comments from the public on this proposal for revising the Forest Plan.

Below is the schedule of initial meetings based on publication of this NOI. Additional meetings may be scheduled as needed.

Date | Time | Location
June 6, 2002 | 7-8:30 p.m | West Plains Civic Center, 110 St. Louis, West Plains, MO 65775.
June 13, 2002 | 7-8:30 p.m | Black River Coliseum, 301 South 5th Street, Poplar Bluff, MO 63901.
June 20, 2002 | 7-8:30 p.m | Farmington Civic Center, #2 Black Knight, Farmington, MO 63640.
June 27, 2002 | 7-8:30 p.m | Leinor Community Center, #1 Hurigan Drive, Columbia, MO 65201.

Availability of Public Comment: Comments received in response to this solicitation, including names and addresses of those who comment, will be considered part of the public record on this proposed action and will be available for public inspection. Comments submitted anonymously will be accepted and considered; however, those who submit anonymous comments will not have standing to appeal the subsequent decisions under 36 CFR parts 215 or 217.

Additionally, pursuant to 7 CFR 1.27(d), any persons may request the agency to withhold a submission from the public record by showing how the FOIA (Freedom of Information Act) permits such confidentiality. Persons requesting such confidentiality should be aware that under FOIA confidentiality may be granted in only very limited circumstances, such as to protect trade secrets.

The Forest Service will inform the requester of the agency's decision regarding the request for confidentiality and where the requester is denied, the agency will return the submission and notify the requester that the comments may be resubmitted with or without name and address within 90 days.

Release and Review of the Draft EIS: The DEIS is expected to be filed with the Environmental Protection Agency (EPA) and to be available for public comment in November 2004. At that time, the EPA will publish a notice of availability in the Federal Register. The comment period on the DEIS will be 90 days from the date the EPA publishes the notice of availability in the Federal Register.

The Forest Service believes, at this early stage, that it is important to give reviewers notice of several court rulings related to public participation in the environmental review process. First, reviewers of draft environmental impact statements must structure their participation in the environmental review of the proposal so that it is meaningful and alerts an agency to the reviewer's position and contentions. Vermont Yankee Nuclear Poser Corp. v. NRDS, 435 U.S. 519, 553 (1978). Also, environmental objections that could be raised at the draft environmental impact statement stage but that are not raised until after completion of the final environmental impact statement may be waived or dismissed by the courts. City of Angoon v. Hodel, 803 F.2d 1016, 1022 (9th cir. 1986) and Wisconsin Heritages, Inc. v. Harris, 490 F. Supp. 1334, 1338 (E.D. Wis. 1980). Because of these court rulings it is very important that those interested in this proposed action participate by the close of the 90-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council of Environmental Quality Regulations (http://ceq.eh.doe.gov/nepa/nepanet.htm) for implementing the procedural provision of the National Environmental Policy Act at 40 CFR 1503.3 in addressing these points.

(Authority: 40 CFR 1501.7 and 1508.22; Forest Service Handbook 1909.15, Section 21)
Dated: April 8, 2002.
Donald L. Meyer,
Acting Regional Forester.

[FR Doc. 02-9142 Filed 4-15-02; 8:45 am]

BILLING CODE 3410-11-P